OVERSEAS PRIVATE INVESTMENT CORPORATION

September 21, 2006 Board of Directors Meeting

Time and Date: Thursday, September 21, 2006, 10 a.m. (Open Portion), 10:15 a.m. (Closed Portion).

Place: Offices of the Corporation, Twelfth Floor Board Room, 1100 New York Avenue, NW., Washington, DC.

Status: Meeting Open to the Public from 10 a.m. to 10:15 a.m. Closed portion will commence at 10:15 a.m. (approx.).

Matters to be Considered:

1. President's Report.

2. Approval of July 13, 2006 Minutes (Open Portion).

Further Matters to be Considered: (Closed to the Public 10:15 a.m.)

1. Report from Audit Committee.

2. Proposed FY2008 Budget.

3. Finance Project—Latin and Central America.

4. Finance Project—Global.

5. Approval of July 13, 2006 Minutes (Closed Portion).

6. Pending Major Projects.

7. Reports.

For Further Information Contact: Information on the meeting may be obtained from Connie M. Downs at (202) 336-8438.

Dated: September 8, 2006.
Connie M. Downs,
Corporate Secretary, Overseas Private Investment Corporation.

[FR Doc. 06-7611 Filed 9-8-06; 11:53 am]

BILLING CODE 3210-01-M